DEPARTMENT OF TRANSPORTATION

Office of the Secretary

[Docket OST-02-11658]

Application of Línea Aérea Puertorriqueña, Inc. for Certificate Authority

AGENCY: Department of Transportation.

ACTION: Notice of Order to Show Cause (Order 2003-5-37) Docket OST-02-11658.

SUMMARY: The Department of Transportation is directing all interested persons to show cause why it should not issue an order finding Línea Aérea Puertorriqueña, Inc., fit, willing, and able, and awarding it a certificate of public convenience and necessity to engage in interstate charter air transportation of persons, property and mail.

DATES: Persons wishing to file objections should do so no later than June 13, 2003.

ADDRESSES: Objections and answers to objections should be filed in Docket OST-02-11658 and addressed to the Department of Transportation Dockets (M-30, Room PL-401), U.S. Department of Transportation, 400 Seventh Street, SW., Washington, DC 20590, and should be served upon the parties listed in Attachment A to the order.

FOR FURTHER INFORMATION CONTACT: Mrs. Janet Davis, Air Carrier Fitness Division (X-56, Room 6401), U.S. Department of Transportation, 400 Seventh Street, SW., Washington, DC 20590, (202) 366-2341.

Dated: May 30, 2003.
Read C. Van de Water,
Assistant Secretary for Aviation and International Affairs.

[FR Doc. 03-14165 Filed 6-5-03; 8:45 am]

BILLING CODE 4910-62-P